DEPARTMENT OF THE INTERIOR

Fish and Wildlife Service

Atlantic Coastal Fisheries Cooperative Management Act Coordination Committee Meeting

AGENCY: Fish and Wildlife Service, Interior.

ACTION: Notice of meeting.

SUMMARY: This notice announces a meeting of the Atlantic Coastal Fisheries Cooperative Management Act Coordination Committee. The meeting topics are identified in the SUPPLEMENTARY INFORMATION.

DATES: The Atlantic Coastal Fisheries Cooperative Management Act Coordination Committee will meet from 9:00 a.m. to 3:00 p.m., Wednesday, October 25, 2000, and is open to the public.

ADDRESSES: The meeting will be held at the U.S. Fish and Wildlife Service, 4401 N. Fairfax Drive, Room 800, Arlington, Virginia.

FOR FURTHER INFORMATION CONTACT: Morgan McCosh, U.S. Fish and Wildlife Service, at 703-358-1718.

SUPPLEMENTARY INFORMATION: Pursuant to Public Law 103-206, as amended, and Public Law 89-304, as amended, this notice announces a joint meeting of the U.S. Fish and Wildlife Service and the National Marine Fisheries Service.

Topics to be discussed during the meeting include the coordination of activities that support Atlantic States Marine Fisheries Commission coastal fisheries management plans under the Atlantic Coastal Fisheries Cooperative Management Act and the Atlantic Striped Bass Conservation Act.

Minutes of the meetings will be maintained by the U.S. Fish and Wildlife Service, Room 840, 4401 North Fairfax Drive, Arlington, Virginia 22203 and the National Marine Fisheries Service, FX2, 8484 Georgia Ave., Suite 425, Silver Spring, Maryland 20910, and will be available for public inspection during regular business hours, Monday through Friday.

Dated: August 18, 2000.
Cathleen I. Short,
Co-Chair, Atlantic Coastal Fisheries Cooperative Management Act Coordination Committee Assistant Director—Fisheries and Habitat Restoration.

[FR Doc. 00-21618 Filed 8-23-00; 8:45 am]

BILLING CODE 4310-55-M